COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before April 24, 2015.

ADDRESSES: Comments regarding the burden estimated or any other aspect of the information collection, including suggestions for reducing the burden, may be submitted directly to OMB within 30 days of the notice's publication by email at OIRAsubmissions@omb.eop.gov. Please identify the comments by OMB Control No. 3038-0072. Please provide the Commission with a copy of all submitted comments at the address listed below. Please refer to OMB Reference No. 3038-0072, found on http://reginfo.gov. Comments may also be mailed to the Office of Information and Regulatory Affairs, Office of Management and Budget, Attention: Desk Officer for the Commodity Futures Trading Commission, 725 17th Street NW., Washington, DC 20503, and to Christopher Cummings, Division of Swap Dealer and Intermediary Oversight, Commodity Futures Trading Commission, Three Lafayette Centre, 1155 21st Street NW., Washington, DC 20581. Comments may also be submitted by any of the following methods:

• The Agency's Web site, at: http://comments.cftc.gov/. Follow the instructions for submitting comments through the Web site.

• Mail: Christopher Kirkpatrick, Secretary, Commodity Futures Trading Commission, Three Lafayette Centre, 1155 21st Street NW., Washington, DC 20581.

• Hand Delivery/Courier: Same as Mail, above.

• Federal eRulemaking Portal: http://www.regulations.gov/. Follow the instructions for submitting comments through the Portal.

Please submit your comments using only one method.

FOR FURTHER INFORMATION CONTACT: Christopher Cummings, Division of Swap Dealer and Intermediary Oversight, Commodity Futures Trading Commission, Three Lafayette Centre, 1155 21st Street NW., Washington, DC 20581; (202) 418-6700; email: ccummings@cftc.gov, and refer to OMB Control No. 3038-0072.

SUPPLEMENTARY INFORMATION:

Title: Registration of Swap Dealers and Major Swap Participants (OMB Control No. 3038-0072). This is a request for extension of a currently approved information collection.

Abstract: Pursuant to Section 731 of the Dodd-Frank Wall Street Reform and Consumer Protection Act, Public Law 111-203, 124 Stat. 1376 (2010) (Dodd-Frank Act), the Commission promulgated regulations setting forth the procedure whereby persons required by the Dodd-Frank Act to register with the Commission as Swap Dealers or Major Swap Participants may do so.

Burden Statement: The Commission estimates that the total annual respondent burden for this collection is 629 hours:

Form 7-R

Respondents/Affected Entities: Swap Dealers and Major Swap Participants.

Estimated number of respondents: 125.

Estimated burden per response: 1 hour.

Estimated total annual burden on respondents: 125 hours.

Frequency of collection: On occasion and annually.

Form 8-R

Respondents/Affected Entities: 5 principals per each of 125 Swap Dealers and Major Swap Participants.

Estimated number of respondents: 625.

Estimated burden per response: 0.8 hour.

Estimated total annual burden on respondents: 500 hours.

Frequency of collection: On occasion.

Form 8-T

Respondents/Affected Entities: 1 principal per each of 20 Swap Dealers and Major Swap Participants.

Estimated number of respondents: 20.

Estimated burden per response: 0.2 hour.

Estimated total annual burden on respondents: 4 hours.

Frequency of collection: On occasion.

Authority: 44 U.S.C. 3501 et seq.

Dated: March 20, 2015.
Christopher J. Kirkpatrick,
Secretary of the Commission.

[FR Doc. 2015-06831 Filed 3-24-15; 8:45 am]

BILLING CODE 6351-01-P